COMMODITY FUTURES TRADING COMMISSION

17 CFR Part 40

RIN 3038-AF14

Event Contracts

AGENCY: Commodity Futures Trading Commission.

ACTION: Extension of comment period.

SUMMARY: On May 10, 2024, the Commodity Futures Trading Commission (“Commission” or “CFTC”) issued a notice of proposed rulemaking (“NPRM”) titled Event Contracts. The comment period for the NPRM was scheduled to close on July 9, 2024. The Commission is extending the comment period for the NPRM by an additional thirty days.

DATES: The comment period for the NPRM titled Event Contracts is extended through August 8, 2024.

ADDRESSES: You may submit comments, identified by “Event Contracts, RIN 3038-AF14,” by any of the following methods:

• CFTC Comments Portal: https://comments.cftc.gov/. Select the “Submit Comments” link for this rulemaking and follow the instructions on the Public Comment Form.

• Mail: Send to Christopher Kirkpatrick, Secretary of the Commission, Commodity Futures Trading Commission, Three Lafayette Centre, 1155 21st Street NW, Washington, DC 20581.

• Hand Delivery/Courier: Follow the same instructions as for Mail, above.

Please submit your comments using only one of these methods. To avoid possible delays with mail or in-person deliveries, submissions through the CFTC Comments Portal are encouraged.

All comments must be submitted in English, or if not, accompanied by an English translation. Comments will be posted as received to https://comments.cftc.gov. You should submit only information that you wish to make available publicly. If you wish the Commission to consider information that you believe is exempt from disclosure under the Freedom of Information Act (“FOIA”), a petition for confidential treatment of the exempt information may be submitted according to the procedures established in § 145.9 of the Commission's regulations. See 17 CFR 145.9.

The Commission reserves the right, but shall have no obligation, to review, pre-screen, filter, redact, refuse, or remove any or all of your submission from https://comments.cftc.gov that it may deem to be inappropriate for publication, such as obscene language. All submissions that have been redacted or removed that contain comments on the merits of the rulemaking will be retained in the public comment file and will be considered as required under the Administrative Procedure Act and other applicable laws, and may be accessible under the FOIA.

FOR FURTHER INFORMATION CONTACT: Nora Flood, Chief Counsel, Division of Market Oversight, Commodity Futures Trading Commission, (202) 418-6059, nflood@cftc.gov, Three Lafayette Centre, 1151 21st Street NW, Washington, DC 20581.

SUPPLEMENTARY INFORMATION: On May 10, 2024, the Commission approved proposed amendments to its rules concerning event contracts in certain excluded commodities.¹ The proposed amendments would further specify types of event contracts that fall within the scope of section 5c(c)(5)(C) of the Commodity Exchange Act (“CEA”) and are contrary to the public interest, such that they may not be listed for trading or accepted for clearing on or through a CFTC-registered entity. Among other things, the proposed amendments would further specify the types of event contracts that involve “gaming.” In addition, the proposed amendments would further align the language of the Commission's event contract rules with the statutory text of CEA section 5c(c)(5)(C), and make certain technical changes to the rules in order to enhance clarity and organization.

¹ See “CFTC to Hold a Commission Open Meeting May 10,” CFTC Rel. No. 8906-24, available at https://www.cftc.gov/PressRoom/PressReleases/8906-24.

The NPRM was published on the Commission's website on May 10, 2024, and was made available for public comment through July 9, 2024, for a total comment period of 60 days.² The NPRM was subsequently published in the Federal Register on June 10, 2024.³ The Commission is extending the comment period by an additional thirty days, until August 8, 2024, in order to allow interested persons additional time to analyze the proposal and prepare their comments.

² See “CFTC Issues Proposal on Event Contracts,” CFTC Rel. No. 8907-24, available at https://www.cftc.gov/PressRoom/PressReleases/8907-24.

³ See Event Contracts, 89 FR 48968 (June 10, 2024).

Issued in Washington, DC, on June 27, 2024, by the Commission.
Christopher Kirkpatrick,
Secretary of the Commission.

Note: The following appendix will not appear in the Code of Federal Regulations.

Appendix to Event Contracts (Extension of Comment Period)—Commission Voting Summary

On this matter, Chairman Behnam and Commissioners Johnson, Goldsmith Romero, Mersinger, and Pham voted in the affirmative. No Commissioner voted in the negative.

[FR Doc. 2024-14610 Filed 7-3-24; 8:45 am]

BILLING CODE 6351-01-P